FEDERAL COMMUNICATIONS COMMISSION

47 CFR Part 64

[WC Docket No. 13-39; FCC 14-175]

Rural Call Completion

AGENCY: Federal Communications Commission.

ACTION: Final rule; correction.

SUMMARY: The Commission published in the Federal Register of December 10, 2014, a document concerning an Order on Reconsideration (Order) affirming the Commission's commitment to ensuring that high quality telephone service must be available to all Americans. In the Order, the Commission established rules to combat extensive problems with successfully completing calls to rural areas, and created a framework to improve the ability to monitor call problems and take appropriate enforcement action. In the Order, the Commission denies several petitions for reconsideration that, if granted, would impair the Commission's ability to monitor, and take enforcement action against, call completion problems. The Commission does, however, grant one petition for reconsideration because the Commission finds that modifying its original determination will significantly lower providers' compliance costs and burdens without impairing the Commission's ability to obtain reliable and extensive information about rural call completion problems.

DATES: This rule corrects an amendment that contains new or modified information collection requirements that will not be effective until approved by the Office of Management and Budget. The Federal Communications Commission will publish a document in the Federal Register announcing the effective date.

FOR FURTHER INFORMATION CONTACT: Claude Aiken, Wireline Competition Bureau, Competition Policy Division, (202) 418-1580, or send an email to claude.aiken@fcc.gov

SUPPLEMENTARY INFORMATION: The Commission published a document in the Federal Register of December 10, 2014, (79 FR 73227), amending § 64.2101 of the Commission's rules.

In Final rule FR Doc. 2014-28936 published on December 10, 2014, (79 FR 73237), make the following correction. On page 73237, in the second column, revise amendatory instruction 2 regarding § 64.2101, and remove the “(f)” before the definition of “Long-distance voice service.”

The revision reads as follows:

“2. Amend § 64.2101 by removing the paragraph (f) designation for the definition of “Long-distance voice service” and revising the definition to read as follows:”

Federal Communications Commission.
Sheryl D. Todd,
Deputy Secretary.

[FR Doc. 2014-30870 Filed 1-7-15; 8:45 am]

BILLING CODE 6712-01-P